DEPARTMENT OF AGRICULTURE

Forest Service

Lakeview-Reeder Fuel Reduction Project, Priest Lake Ranger District, Idaho Panhandle National Forests; Bonner County, Idaho

AGENCY: Forest Service, USDA.

ACTION: Notice of intent to prepare an environmental impact statement.

SUMMARY: The Priest Lake Ranger District of the Idaho Panhandle National Forests is proposing fuel reduction and forest restoration activities in the vicinity of the community of Nordman, Idaho and near Reeder Bay along Priest Lake. Priorities for treatment are those forest stands which not only have significant ground fuel accumulations, ladder fuels and/or dense tree canopies, but also are located in a geographically strategic site or are adjacent to private property, developments, public infrastructure or other important resources. The project, as proposed, will reduce hazardous forest fuels in the wildland urban interface (WUI), restore forest health and resilience and will provide additional resource benefits to water resources and grizzly bear core habitat. The USDA Forest Service will prepare an environmental impact statement (EIS) to disclose the potential environmental effects of implementing project activities on National Forest System lands within the project area.

DATES: Comments concerning the scope of the analysis must be received by December 15, 2006. The draft environmental impact statement is expected to be published in May 2007 and the final environmental impact statement, in conjunction with a Record of Decision, is expected to be published in September 2007.

ADDRESSES: Send written comments and suggestions to David Cobb, Project Team Leader, Priest Lake Ranger District, 32203 Highway 57, Priest River, Idaho 83856; e-mail address: dcobb@fs.fed.us.

FOR FURTHER INFORMATION CONTACT: David Cobb, Project Team Leader, Priest Lake Ranger District, 32203 Highway 57, Priest River, Idaho 83856; e-mail: dcobb@fs.fed.us; phone 208-433-6854.

SUPPLEMENTARY INFORMATION:

Purpose & Need

The purpose and need for the Lakeview-Reeder Fuel Reduction Project addresses the goals and objectives set forth in the Idaho Panhandle National Forests' (IPNF) Forest Plan (1987), National Fire Plan, Healthy Forest Initiative, the Healthy Forests Restoration Act (2003), Bonner County, Idaho Wildlife Urban Interface Fire Mitigation Plan and the Pend Oreille County, Washington Community Wildfire Protection Plan. The purpose and need also responds to ecological recommendations made in the Interior Columbia Basin Ecosystem Management Project. The two primary reasons for proposing this project are to: (1) Reduce hazardous forest fuels in the project area to decrease the risk of wildfire negatively impacting the communities in the project area, public and firefighter safety, public infrastructure, private and National Forest System lands and resource values; and (2) Restore, enhance and protect forest ecosystem components to improve forest health, increase biological diversity, as well as reduce threats from catastrophic wildfire and insect and disease infestations.

Proposed Action

In order to effectively reduce hazardous forest fuels in the 29,380-acre project area, as well as restore, enhance and protect forest ecosystem components, we are proposing the following treatment activities. Proposed treatment activities total approximately 8,375 acres.

Approximately 2,816 acres could be treated using a commercial thinning. Commercial thinning entails removal of some of the merchantable trees from a forest stand, in this case, to decrease the individuals or species which will likely contribute to ground fuel accumulations and to increase spacing between and improve the long-term health of residual trees. Following thinning, slash disposal and fuel reduction of smaller trees can be performed using the following methods: approximately 2,375 acres could be mechanically piled and burned and approximately 441 acres could be left unpiled to be broadcast burned under prescribed conditions.

Another approximately 4,177 acres would need to be treated using a regeneration harvest. Regeneration treatment involves removal of much of the overstory component, enough to create conditions which enable proper germination and/or growth of the next generation of trees. Following regeneration treatment, slash disposal and further fuel reductions could be achieved by mechanically piling and burning 2,579 acres and broadcast burning 1,598 acres under prescribed conditions.

Additional treatment activities would include prescribed, broadcast burning on approximately 1,279 acres. Prescribed, broadcast burning can only be utilized alone as a treatment in certain areas which do not have dense quantities of more flammable fuels. Such areas include old shrub fields, aspen stands and open, dry-site stands of ponderosa pine and Douglas-fir. In these appropriate areas, treatment may or may not include slashing of some fuels, followed by broadcast burning of those fuels under prescribed conditions.

Finally, approximately 103 acres can be treated by slashing smaller, unmerchantable material, followed by piling and burning. Some areas will be conducive to utilizing equipment to perform the slashing, while others will require more labor-intensive hand-slashing. In some cases (approximately 79 acres), the piling of slash can be performed with equipment, while the other approximately 24 acres will require hand-piling.

In order to adequately access the fuel treatment areas, some road maintenance, reconstruction and construction activities would also be required. The proposed action includes constructing approximately six miles of new road, five miles of which would be permanent road and the remaining mile would be temporary. The temporary road would be obliterated after using it for this project. In addition, eight miles of existing roads would be reconstructed and approximately 36.5 miles of road would have maintenance activities conducted on them.

Some resource improvement opportunities also exist within the project area—namely improvement of grizzly bear core habitat within the Kalispell-Granite Grizzly Bear Management Unit (BMU) and reduction in pollutants of concern (primarily sediment and temperature) in three, 303(d) listed watersheds—Granite, Reeder and Kalispell Creeks. In order to improve water quality in Granite, Reeder and Kalispell Creeks, many road improvements may be necessary including culvert replacements, new stream crossing surfaces, as well as road maintenance, reconstruction or relocation. In order to improve grizzly bear core habitat, we need to reduce the total and open road densities (decreasing the miles of open road per square mile of area) within the Kalispell-Granite BMU. In other words, some roads within the Kalispell-Granite BMU may need to be effectively closed with a barricade or obliterated.

Possible Alternatives

Because all of the proposed treatment areas for the Lakeview-Reeder Fuel Reduction Project are within Bonner County, Idaho—or Pend Oreille County, Washington—defined wildland urban interface, the USDA Forest Service is only required to analyze one action alternative in addition to the “no-action” alternative.

Responsible Official

Ranotta K. McNair, Forest Supervisor, Idaho Panhandle National Forests, 3815 Schreiber Way, Coeur d'Alene, ID 83815.

Nature of Decision To Be Made

The responsible official for the environmental analysis will be responsible for deciding which actions will be undertaken by the agency pertaining to the Lakeview-Reeder Fuel Reduction Project. That decision includes not only which alternative is chosen, but also includes independent decisions on associated mitigation measures, design criteria and resource improvement opportunities.

Scoping Process

The Priest Lake Ranger District has strived to encourage public collaboration for this project. Comments received during earlier, informal scoping efforts and meetings regarding the Lakeview-Reeder Fuel Reduction Project will be considered and used to develop strategies for management of natural resources in the project area. Future meetings and field trips for this project will be planned as necessary or as requested.

Comment Requested

This notice of intent initiates the scoping process which guides the development of the environment impact statement. Comments concerning the scope of the analysis must be received by December 15, 2006.

Preliminary Issues

Many potential issues pertaining to the Lakeview-Reeder Fuel Reduction Project have already surfaced during informal scoping, public collaboration and interdisciplinary team meetings. Potential issues which may entail detailed analysis or require mitigation include:

➢ Wildfire hazard—defining the risk and decreasing the risk of negative impacts from large-scale, catastrophic fire events to local communities, private property, public infrastructure and other valuable resources.

➢ Forest health—improving the long-term health and resilience of forest stands in the project area.

➢ Long-term maintenance—How will we ensure future maintenance of treated areas?

➢ Threatened, endangered, sensitive (TES), and management indicator species (MIS) of wildlife (and their habitat).

➢ Aquatic resources (including TES fish species, 303(d) listed TMDL watersheds, water yield, sediment yield, domestic water sources, floodplains, wetlands).

➢ Access—motorized access for private use and recreation motorized access for administrative use (i.e., fire control, land management).

➢ Off-road motorized use—potential negative impacts, how to enforce regulations?

➢ Highway/roadside safety—hazard trees, visibility, wildlife collisions.

➢ Visuals—maintaining scenic integrity by complying with IPNF Forest Plan Visual Quality Objectives.

➢ Soil productivity—compaction, nutrient recycling, course woody debris, nutrient limitations (i.e., potassium), erosion potential.

➢ TES and rate plant species—identification and protection of these plants.

➢ Archaeological sites—identification and protection of sites.

➢ Noxious weeds—both new introductions and dispersal of existing populations.

➢ Old growth—maintaining adequate old growth stands on the District.

➢ Recreation—requests to increase recreational opportunities, minimizing negative impacts to recreational users from project activities.

➢ Financial analysis—ensuring that the project is economically feasible, determining potential impacts of project on social resources.

➢ Air quality—reducing the project's potential negative impacts to air quality.

➢ Product utilization—Can we ensure better product utilization to minimize the need for burning?

➢ Big game—minimizing negative impacts to big game security, winter range and travel corridors.

➢ Regulations—Can we ensure compliance with IPNF Forest Plan Standards and Guidelines, NEPA, as well as other federal and state regulations?

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including the names and addresses of those who comment, will be considered part of the public record on this proposal and will be available for public inspection. Comments submitted anonymously will be accepted and considered; however, those who submit anonymous comments may not have standing to appeal the subsequent decision under 36 CFR, part 215. Additionally, pursuant to 7 CFR 1.27(d), any person may request the agency withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

(Authority: 40 CFR 1501.7 and 1508.22; Forest Service Handbook 1909.15, Section 21)

Dated: November 20, 2006.
Ranotta K. McNair,
Forest Supervisor.

[FR Doc. 06-9421 Filed 11-27-06; 8:45 am]

BILLING CODE 3410-11-M